GENERAL SERVICES ADMINISTRATION

48 CFR Part 513

[GSAR Case 2007-G502; Docket 2008-0007; Sequence 16]

RIN 3090-AI67

General Services Acquisition Regulation; GSAR Case 2007-G502; Rewrite of GSAR Part 513, Simplified Acquisition Procedures

Correction

In proposed rule document E8-17549 beginning on page 44955 in the issue of Friday, August 1, 2008, make the following correction:

PART 513- [Removed]

On page 44956. in the third column, in the last line, the part heading should appear as shown above.

[FR Doc. Z8-17549 Filed 8-8-08; 8:45 am]

BILLING CODE 1505-01-D